DEPARTMENT OF TRANSPORTATION

Federal Railroad Administration

Safety Advisory 2020-01; Safety Precautions Related to Coronavirus Disease 2019 (COVID-19)

AGENCY: Federal Railroad Administration (FRA), Department of Transportation.

ACTION: Notice of Safety Advisory.

SUMMARY: This Safety Advisory encourages railroads, their employees, and contractors to review and follow all applicable guidance available related to COVID-19, including the best practices identified in the President's Coronavirus Guidelines for America—30 Days to Slow the Spread of Coronavirus (COVID-19), the Centers for Disease Control and Prevention's (CDC) COVID-19 guidelines, and the Occupational Safety and Health Administration's (OSHA) Guidance on Preparing Workplaces for COVID-19. This Safety Advisory recommends that railroads develop and implement procedures and practices consistent with the above-identified best practices and that railroads take certain other actions to ensure the safety of railroad operations and maintenance during this national emergency. FRA believes that actions consistent with this Safety Advisory will reduce the risk of railroad employees, contractors, and members of the public contracting or spreading COVID-19.

FOR FURTHER INFORMATION CONTACT: Karl Alexy, Associate Administrator for Safety and Chief Safety Officer, FRA, 1200 New Jersey Avenue SE, Washington, DC 20590, telephone (202) 493-6282.

Disclaimer: This Notice of Safety Advisory is considered guidance pursuant to 49 CFR 5.25. The information in this Safety Advisory does not have the force and effect of law and is not meant to bind the public in any way. If you have questions relating to COVID-19, please contact the CDC directly.

SUPPLEMENTARY INFORMATION:

Background

As reported by CDC,¹ infection with SARS-CoV-2, the virus that causes COVID-19, can cause a respiratory illness that can spread from person to person. Symptoms can range from mild to severe, and often include a fever and a cough or difficulty breathing. The outbreak first started in China, but cases have been identified in a growing number of other areas, including the United States. On March 11, 2020, the World Health Organization characterized the COVID-19 outbreak a pandemic, meaning the disease had spread worldwide. On March 13, 2020, President Donald J. Trump declared a national emergency related to COVID-19.

¹ https://www.cdc.gov/coronavirus/2019-ncov/index.html.

SARS-CoV-2 is a novel virus, which means there is still much to learn about the risk factors, signs and symptoms, and how it is spread.² Based on what the CDC currently knows about the virus, it is mostly spread from person-to-person in close contact (within about 6 feet) through respiratory droplets produced when an infected person coughs, sneezes, or talks.³ Maintaining good social distance (about 6 feet) is very important in preventing the spread of COVID-19.⁴ It may also be possible that a person can get COVID-19 by touching a surface or object that has the virus on it and then touching their own mouth, nose, or possibly their eyes, but this is not thought to be the main way the virus spreads.⁵

² The understanding of COVID-19 is constantly evolving; FRA recommends checking the CDC website for the most current information and recommendations.

³ https://www.cdc.gov/coronavirus/2019-ncov/prepare/transmission.html.

⁴ Id.

⁵ Id.

FRA's Actions Related to COVID-19

Following the President's declaration of a national emergency related to COVID-19, on March 13, 2020, FRA Administrator Ronald L. Batory determined that the imminent threat and exposure to COVID-19 posed a risk of serious illness that constitutes an “emergency situation” as related to railroad operations. As a result, Administrator Batory activated FRA's Emergency Relief Docket (ERD) (Docket Number FRA-2020-0002), which enabled FRA to begin considering, on an expedited basis, requests for relief from regulatory requirements to address issues caused by the COVID-19 public health emergency.

Through the ERD, FRA has issued temporary, industry-wide relief from certain FRA regulations to help enable railroads to continue to operate for the duration of the COVID-19 public health emergency, and at the same time, to ensure the safety of railroad employees. See Docket Number FRA-2020-0002, available on www.regulations.gov. FRA granted temporary, conditional relief from certain required tests and inspections, as well as certain operational relief. FRA conditioned much of the relief granted in the waiver on the existence of workforce shortages or other constraints directly resulting from the COVID-19 public health emergency, meaning that individual railroads may utilize the relief only in situations where COVID-19 has caused workforce shortages (i.e., employees are out sick or quarantined) or otherwise prevented railroads from complying with the regulations. Other relief FRA granted is consistent with CDC's recommendations for social distancing and limiting the touching of common surfaces.

Safety Advisory 2020-01

Railroads are a critical infrastructure industry and have a responsibility to ensure the timely movement of essential goods and people. FRA encourages railroads to review the following guidance and information related to the COVID-19 public health emergency:

• The President's Coronavirus Guidelines for America—30 Days to Slow the Spread: https://www.whitehouse.gov/wp-content/uploads/2020/03/03.16.20_coronavirus-guidance_8.5x11_315PM.pdf;

• CDC's Coronavirus (COVID-19) website: https://www.cdc.gov/coronavirus/2019-nCoV/index.html;

• CDC's Interim Guidance for Businesses and Employers: https://www.cdc.gov/coronavirus/2019-ncov/community/guidance-business-response.html;

• CDC's Workplace, Home and School Guidance: https://www.cdc.gov/coronavirus/2019-ncov/downloads/workplace-school-and-home-guidance.pdf;

• OSHA's COVID-19 guidance page: https://www.osha.gov/coronavirus; and

• Federal Coronavirus website: www.coronavirus.gov.

FRA encourages railroads to take action consistent with the recommendations and guidance cited above to help reduce the risk that railroad employees and contractors contract COVID-19 and then spread it to others. FRA may modify this Safety Advisory or take other appropriate actions necessary to ensure the highest level of safety on the Nation's railroads.

Issued in Washington, DC.
John Karl Alexy,
Associate Administrator for Railroad Safety and Chief Safety Officer.

[FR Doc. 2020-07559 Filed 4-9-20; 8:45 am]

BILLING CODE 4910-06-P